NUCLEAR REGULATORY COMMISSION

[NRC-2022-0171]

Monthly Notice; Applications and Amendments to Facility Operating Licenses and Combined Licenses Involving No Significant Hazards Considerations

AGENCY: Nuclear Regulatory Commission.

ACTION: Monthly notice.

SUMMARY: Pursuant to the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by November 3, 2022. A request for a hearing or petitions for leave to intervene must be filed by December 5, 2022. This monthly notice includes all amendments issued, or proposed to be issued, from August 19, 2022, to September 15, 2022. The last monthly notice was published on September 6, 2022.

ADDRESSES: You may submit comments by any of the following methods; however, the NRC encourages electronic comment submission through the Federal rulemaking website:

• Federal rulemaking website: Go to https://www.regulations.gov and search for Docket ID NRC-2022-0171. Address questions about Docket IDs in Regulations.gov to Stacy Schumann; telephone: 301-415-0624; email: Stacy.Schumann@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Rhonda Butler, Office of Nuclear Reactor Regulation, U.S. Nuclear Regulatory Commission, Washington, DC 20555-0001, telephone: 301-415-8025, email: Rhonda.Butler@nrc.gov.

SUPPLEMENTARY INFORMATION:

I. Obtaining Information and Submitting Comments

A. Obtaining Information

Please refer to Docket ID NRC-2022-0171, facility name, unit number(s), docket number(s), application date, and subject when contacting the NRC about the availability of information for this action. You may obtain publicly available information related to this action by any of the following methods:

• Federal Rulemaking website: Go to https://www.regulations.gov and search for Docket ID NRC-2022-0171.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

B. Submitting Comments

The NRC encourages electronic comment submission through the Federal rulemaking website (https://www.regulations.gov). Please include Docket ID NRC-2022-0171, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr. If a petition is filed, the Commission or a presiding officer will rule on the petition and, if appropriate, a notice of a hearing will be issued.

As required by 10 CFR 2.309(d) the petition should specifically explain the reasons why intervention should be permitted with particular reference to the following general requirements for standing: (1) the name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9:00 a.m. and 6:00 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Constellation Energy Generation, LLC; Braidwood Station, Units 1 and 2, Will County, IL; Byron Station, Units 1 and 2, Ogle County, IL; Calvert Cliffs Nuclear Power Plant, Units 1 and 2; Calvert County, MD; R. E. Ginna Nuclear Power Plant; Wayne County, NY
Docket No(s) | 50-244, 50-317, 50-318, 50-454, 50-455, 50-456, 50-457.
Application date | August 10, 2022.
ADAMS Accession No | ML22222A068.
Location in Application of NSHC | Pages 4-6 of the Enclosure.
Brief Description of Amendment(s) | The proposed amendments adopt TSTF-577, “Revised Frequencies for Steam Generator Tube Inspections,” at the Braidwood Station, Byron Station, Calvert Cliffs Nuclear Power Plant, and R. E. Ginna Nuclear Power Plant.
Proposed Determination | NSHC.
Name of Attorney for Licensee, Mailing Address | Jason Zorn, Associate General Counsel, Constellation Energy Generation, 101 Constitution Ave NW, Washington, DC 20001.
NRC Project Manager, Telephone Number | Joel Wiebe, 301-415-6606.
Constellation Energy Generation, LLC; Quad Cities Nuclear Power Station, Units 1 and 2; Rock Island County, IL
Docket No(s) | 50-254, 50-265.
Application date | November 16, 2021, as supplemented by letter dated August 18, 2022.
ADAMS Accession No | ML21320A195, ML22230A807.
Location in Application of NSHC | Pages 4-5 of the Attachment.
Brief Description of Amendment(s) | The amendments would revise control rod scram time limits in Technical Specification Table 3.1.4-1 “Control Rod Scram Times.” The license amendment request was originally noticed in the Federal Register on January 25, 2022 (87 FR 3847). The notice is being reissued in its entirety to include the revised scope, description of the amendment request, and proposed no significant hazards consideration determination.
Proposed Determination | NSHC.
Name of Attorney for Licensee, Mailing Address | Jason Zorn, Associate General Counsel, Constellation Energy Generation, 101 Constitution Ave. NW, Washington, DC 20001.
NRC Project Manager, Telephone Number | Robert Kuntz, 301-415-3733.
Energy Harbor Nuclear Corp. and Energy Harbor Nuclear Generation LLC; Perry Nuclear Power Plant, Unit 1; Lake County, OH
Docket No(s) | 50-440.
Application date | August 5, 2022.
ADAMS Accession No | ML22217A087.
Location in Application of NSHC | Pages 4-6 of the Enclosure.
Brief Description of Amendment(s) | The proposed amendment modifies the Technical Specification Surveillance Requirements (SRs) by adding exceptions to consider the SR met when automatic valves or dampers are locked, sealed, or otherwise secured in the actuated position, in order to consider the SR met. The changes are consistent with Technical Specifications Task Force (TSTF) Traveler, TSTF-541, Revision 2, “Add Exceptions to Surveillance Requirements for Valves and Dampers Locked in the Actuated Position.”.
Proposed Determination | NSHC.
Name of Attorney for Licensee, Mailing Address | Rick Giannantonio, General Counsel, Energy Harbor Nuclear Corp.,168 E. Market Street, Akron, OH 44308-2014.
NRC Project Manager, Telephone Number | Scott Wall, 301-415-2855.
NextEra Energy Point Beach, LLC; Point Beach Nuclear Plant, Units 1 and 2; Manitowoc County, WI
Docket No(s) | 50-266, 50-301.
Application date | July 29, 2022.
ADAMS Accession No | ML22210A086.
Location in Application of NSHC | Pages E2-10—12 of Enclosure 2.
Brief Description of Amendment(s) | The proposed amendments would revise the licensing basis described in the Point Beach Nuclear Plant, Units 1 and 2, Updated Final Safety Analysis Report (UFSAR) to allow the use of a risk-informed approach to address safety issues discussed in Generic Letter (GL) 2004-02, “Potential Impact of Debris Blockage on Emergency Recirculation during Design Basis Accidents at Pressurized-Water Reactors.” The proposed license amendments are part of the licensee's final resolution to addressing the concerns of Generic Safety Issue (GSI-191), “Assessment of Debris Accumulation on Pressurized-Water Reactor Sump and Performance,” and for responding to GL 2004-02.
Proposed Determination | NSHC.
Name of Attorney for Licensee, Mailing Address | Steven Hamrick, Managing Attorney—Nuclear, Florida Power and Light Company, P.O. Box 14000, Juno Beach, FL 33408-0420.
NRC Project Manager, Telephone Number | Scott Wall, 301-415-2855.
Nine Mile Point Nuclear Station, LLC and Constellation Energy Generation, LLC; Nine Mile Point Nuclear Station, Unit 1; Oswego County, NY
Docket No(s) | 50-220.
Application date | June 29, 2022.
ADAMS Accession No | ML22180A020.
Location in Application of NSHC | Pages 4-6 of Attachment 1.
Brief Description of Amendment(s) | The proposed amendment would revise the post-loss-of-coolant accident alternative source term (AST) analysis for containment leakage at Nine Mile Point 1. The proposed changes are in response to a U.S. Nuclear Regulatory Commission inspection finding where it was discovered that changes were made to the original 2007 AST analysis that when taken consecutively, would not have been allowed via section 50.59 of title 10 of the Code of Federal Regulations. The first change was performed where corrections to the chemical group assignment for various radionuclides modeled in the RadTrad 3.03 code were needed. The second change involved updates and recategorizations to the modeling of both main steam isolation valve (MSIV) leakage and non-MSIV leakage.
Proposed Determination | NSHC.
Name of Attorney for Licensee, Mailing Address | Jason Zorn, Associate General Counsel, Constellation Energy Generation, 101 Constitution Ave. NW, Washington, DC 20001.
NRC Project Manager, Telephone Number | Richard Guzman, 301-415-1030.
Pacific Gas and Electric Company; Diablo Canyon Power Plant, Units 1 and 2; San Luis Obispo County, CA
Docket No(s) | 50-275, 50-323.
Application date | July 26, 2022.
ADAMS Accession No | ML22208A135.
Location in Application of NSHC | Pages 2-4 of the Enclosure.
Brief Description of Amendment(s) | The amendment would allow the licensee to adopt Technical Specifications Task Force (TSTF) 569, “Revise Response Time Testing Definition,” which revises the Technical Specifications definitions for engineered safety feature response time and reactor trip system response time.
Proposed Determination | NSHC.
Name of Attorney for Licensee, Mailing Address | Jennifer Post, Esq., Pacific Gas and Electric Co., 77 Beale Street, Room 3065, Mail Code B30A, San Francisco, CA 94105.
NRC Project Manager, Telephone Number | Samson Lee, 301-415-3168.
STP Nuclear Operating Company; South Texas Project, Units 1 and 2; Matagorda County, TX
Docket No(s) | 50-498, 50-499
Application date | August 9, 2022, as supplemented by letter dated September 1, 2022.
ADAMS Accession No | ML22221A212, ML22244A232.
Location in Application of NSHC | Pages 3-4 of the Enclosure.
Brief Description of Amendment(s) | The proposed amendments would adopt Technical Specifications Task Force (TSTF) Traveler TSTF- 554, Revision 1, “Revise Reactor Coolant Leakage Requirements,” which is an approved change to the Standard Technical Specifications, into the South Texas Project, Units 1 and 2, Technical Specifications (TSs). The proposed amendments would revise the TS definition of “Leakage,” clarify the requirements when pressure boundary leakage is detected, and add a required action when pressure boundary leakage is identified. The model safety evaluation was approved by the NRC in a letter dated April 20, 2021 (ML21106A249 (package)), using the consolidated line item improvement process.
Proposed Determination | NSHC.
Name of Attorney for Licensee, Mailing Address | Rachel L. Jackson, General Counsel and General Manager Employee Relations, STP Nuclear Operating Company, P.O. Box 289, Wadsworth, TX 77483.
NRC Project Manager, Telephone Number | Dennis Galvin, 301-415-6256.
Wolf Creek Nuclear Operating Corporation; Wolf Creek Generating Station, Unit 1; Coffey County, KS
Docket No(s) | 50-482.
Application date | August 2, 2022.
ADAMS Accession No | ML22215A000 (package).
Location in Application of NSHC | Pages 7-9 of Attachment I.
Brief Description of Amendment(s) | The proposed amendment would approve a deviation from fire protection program requirements to allow the use of portable lighting as the primary emergency lighting means (with limited exceptions) for illuminating safe shutdown equipment and access egress routes to the equipment.
Proposed Determination | NSHC.
Name of Attorney for Licensee, Mailing Address | Thomas C. Poindexter, Morgan, Lewis and Bockius LLP, 1111 Pennsylvania Avenue NW, Washington, DC 20004-2541.
NRC Project Manager, Telephone Number | Samson Lee, 301-415-3168.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Constellation Energy Generation, LLC; Braidwood Station, Units 1 and 2, Will County, IL; Byron Station, Units 1 and 2, Ogle County, IL
Docket No(s) | 50-454, 50-455, 50-456, 50-457.
Amendment Date | August 30, 2022.
ADAMS Accession No | ML22210A031.
Amendment No(s) | Braidwood—230 (Unit 1) and 230 (Unit 2), Byron—230 (Unit 1) and 230 (Unit 2).
Brief Description of Amendment(s) | The amendments revised the Technical Specifications (TSs) 3.8.3, “Diesel Fuel Oil,” by relocating the current stored diesel fuel oil numerical volume requirements from the TS to the TS Bases so that it may be modified under licensee control. The TS is modified so that the stored diesel fuel oil inventory will require that a 7-day supply be available for each diesel generator. The amendments are consistent with TSTF-501, Revision 1, “Relocate Stored Fuel Oil and Lube Oil Volume Values to Licensee Control.”.
Public Comments Received as to Proposed NSHC (Yes/No) | No.
Constellation Energy Generation, LLC; Braidwood Station, Units 1 and 2; Will County, IL
Docket No(s) | 50-456, 50-457.
Amendment Date | August 10, 2022.
ADAMS Accession No | ML22173A214.
Amendment No(s) | 228 (Unit 1) and 228 (Unit 2).
Brief Description of Amendment(s) | The amendments removed Braidwood, Unit 2, License Condition 2.C.(12)(d), regarding repair of reactor head closure stud hole location No. 35 and increment the Braidwood, Unit 1, license amendment number so it remains the same as Unit 2. The change to the Braidwood, Unit 1, license is administrative and no text changes are made to its license.
Public Comments Received as to Proposed NSHC (Yes/No) | No.
Constellation Energy Generation, LLC; Braidwood Station, Units 1 and 2; Will County, IL
Docket No(s) | 50-456, 50-457.
Amendment Date | August 11, 2022.
ADAMS Accession No | ML22173A181.
Amendment No(s) | 229 (Unit 1) and 229 (Unit 2).
Brief Description of Amendment(s) | The amendment removed Braidwood, Unit 2, License Condition 2.C.(12)(d), regarding repair of reactor head closure stud hole location No. 35. The Braidwood, Unit 1, amendment number is incremented to 229 so it remains the same as Unit 2. The change to the Braidwood, Unit 1, license is administrative and no textual changes are made to its license.
Public Comments Received as to Proposed NSHC (Yes/No) | No.
Dominion Energy South Carolina, Inc.; Virgil C. Summer Nuclear Station, Unit 1, Fairfield County, SC
Docket No(s) | 50-395.
Amendment Date | August 16, 2022.
ADAMS Accession No | ML22160A365.
Amendment No(s) | 222.
Brief Description of Amendment(s) | The amendment modified the Technical Specifications by relocating specific surveillance frequencies to a licensee-controlled program with the implementation of Nuclear Energy Institute (NEI) 04-10, “Risk-Informed Technical Specifications Initiative 5b, Risk-Informed Method for Control of Surveillance Frequencies.”.
Public Comments Received as to Proposed NSHC (Yes/No) | No.
Duke Energy Carolinas, LLC; Catawba Nuclear Station, Units 1 and 2; York County, SC; Duke Energy Carolinas, LLC; McGuire Nuclear Station, Units 1 and 2; Mecklenburg County, NC; Duke Energy Progress, LLC; Shearon Harris Nuclear Power Plant, Unit 1; Wake and Chatham Counties, NC
Docket No(s) | 50-413, 50-414, 50-369, 50-370, 50-400.
Amendment Date | September 12, 2022.
ADAMS Accession No | ML22242A002.
Amendment No(s) | Catawba—314 (Unit 1) and 310 (Unit 2), McGuire—324 (Unit 1) and 303 (Unit 2), Harris 195 (Unit 1).
Brief Description of Amendment(s) | These amendments adopt Technical Specifications Task Force (TSTF) Traveler TSTF-569, Revision 2, “Revise Response Time Testing Definition.” These amendments revise the technical specification definitions for Engineered Safety Feature Response Time and Reactor Trip System Response Time.
Public Comments Received as to Proposed NSHC (Yes/No) | No.
NextEra Energy Point Beach, LLC; Point Beach Nuclear Plant, Units 1 and 2; Manitowoc County, WI
Docket No(s) | 50-266, 50-301.
Amendment Date | September 12, 2022.
ADAMS Accession No | ML22193A114.
Amendment No(s) | 270 (Unit 1) and 272 (Unit 2).
Brief Description of Amendment(s) | The amendments deleted Technical Specification 5.5.3 “Post Accident Sampling System (PASS).”.
Public Comments Received as to Proposed NSHC (Yes/No) | No.
Pacific Gas and Electric Company; Diablo Canyon Power Plant, Units 1 and 2; San Luis Obispo County, CA
Docket No(s) | 50-275, 50-323.
Amendment Date | September 6, 2022.
ADAMS Accession No | ML22221A168.
Amendment No(s) | 241 (Unit 1) and 242 (Unit 2).
Brief Description of Amendment(s) | The amendments revised Technical Specifications (TSs) 3.4.17, “Steam Generator (SG) Tube Integrity”; 5.5.9, “Steam Generator (SG) Tube Inspection Program”; and 5.6.10, “Steam Generator (SG) Tube Inspection Report,” based on Technical Specifications Task Force (TSTF) Traveler TSTF-577, Revision 1, “Revised Frequencies for Steam Generator Tube Inspections.”.
Public Comments Received as to Proposed NSHC (Yes/No) | No.
Southern Nuclear Operating Company, Inc.; Edwin I. Hatch Nuclear Plant, Units 1 and 2; Appling County, GA
Docket No(s) | 50-321, 50-366.
Amendment Date | September 2, 2022.
ADAMS Accession No | ML22192A117.
Amendment No(s) | 317 (Unit 1) and 262 (Unit 2).
Brief Description of Amendment(s) | The amendments revised Technical Specification (TS) 3.6.1.3, “Primary Containment Isolation Valves (PCIVs).” The amendments revised TS 3.6.1.3 to adopt certain aspects of TS Task Force (TSTF) Traveler TSTF 207 A, Revision 5, “Completion Time for Restoration of Various Excessive Leakage Rates.”.
Public Comments Received as to Proposed NSHC (Yes/No) | No.
Tennessee Valley Authority; Sequoyah Nuclear Plant, Units 1 and 2; Hamilton County, TN
Docket No(s) | 50-327, 50-328.
Amendment Date | August 24, 2022.
ADAMS Accession No | ML22210A118.
Amendment No(s) | 358 (Unit 1) and 352 (Unit 2).
Brief Description of Amendment(s) | The amendments modified technical specification requirements to permit the use of risk-informed completion times in accordance with Technical Specifications Task Force (TSTF) Traveler, TSTF-505, Revision 2, “Provide Risk-Informed Extended Completion Times—RITSTF [Risk-Informed TSTF] Initiative 4b,” dated July 2, 2018 (ML18183A493).
Public Comments Received as to Proposed NSHC (Yes/No) | No.
TMI-2 Solutions, LLC; Three Mile Island Unit 2; Londonderry Township, Dauphin County, PA
Docket No(s) | 50-320.
Amendment Date | August 30, 2022.
ADAMS Accession No | ML22189A194 (package).
Amendment No(s) | 65.
Brief Description of Amendment(s) | NRC issued amendment 65 to DPR-73 for Three Mile Island Station, Unit 2 (TMI-2). The amendment modifies License Condition 2.C.(2), Physical Protection, to refer to a security plan specific to TMI-2 that implements Part 37 requirements and addresses the applicable portions of the 10 CFR 73.67 requirements that are not covered by Part 37. This modification ensures that TMI-2 Solutions, the licensee, continues to meet the applicable physical security requirements.
Public Comments Received as to Proposed NSHC (Yes/No) | No.
Virginia Electric and Power Company; Surry Power Station, Units 1 and 2; Surry County, VA
Docket No(s). | 50-280, 50-281.
Amendment Date | August 26, 2022.
ADAMS Accession No | ML22193A295.
Amendment No(s) | 308 (Unit 1) and 308 (Unit 2).
Brief Description of Amendment(s) | These amendments revised the Surry, Unit Nos. 1 and 2, Technical Specification, Section 3.4.A.4 “Spray Systems,” to eliminate the Refueling Water Chemical Addition Tank and allow the use of sodium tetraborate decahydrate to replace sodium hydroxide as a chemical additive (buffer) for containment sump pH control following a loss-of-coolant accident.
Public Comments Received as to Proposed NSHC (Yes/No) | No.
Vistra Operations Company, LLC; Comanche Peak Nuclear Power Plant, Units 1 and 2; Somervell County, TX
Docket No(s) | 50-445, 50-446.
Amendment Date | August 22, 2022.
ADAMS Accession No | ML22192A007.
Amendment No(s) | 183 (Unit 1) and 183 (Unit 2).
Brief Description of Amendment(s) | The amendments modified technical specification requirements to permit the use of risk-informed completion times in accordance with Technical Specifications Task Force (TSTF) Traveler TSTF-505, Revision 2, “Provide Risk-Informed Extended Completion Times—RITSTF [Risk-Informed TSTF] Initiative 4b.”.
Public Comments Received as to Proposed NSHC (Yes/No) | No.

Dated: September 29, 2022.
For the Nuclear Regulatory Commission.
Gregory F. Suber,
Deputy Director, Division of Operating Reactor Licensing, Office of Nuclear Reactor Regulation.

[FR Doc. 2022-21508 Filed 10-3-22; 8:45 am]

BILLING CODE 7590-01-P